DEPARTMENT OF JUSTICE

Notice of Lodging of Consent Decrees Pursuant to the Comprehensive Environmental Response, Compensation and Liability Act

In accordance with CERCLA section 122(d)(2), 42 U.S.C. 9622(d)(2), and Departmental policy in 28 CFR 50.7, notice is hereby given that on March 7, 2003, two proposed Consent Decrees in United States v. GPU, Inc., et al, consolidated Civil Action Nos. 96-338, and 97-468, were lodged with the United States District Court for the District of Delaware.

In this action, the United States sought: implementation of a unilateral administrative order issued by the U.S. Environmental Protection Agency (“EPA”), civil penalties for failure to comply with that order, and recovery of environmental response costs incurred and to be incurred by the United States, all in connection with the Dover Gas Light Superfund Site, located in Dover, Delaware (“Site”). The first Consent Decree requires General Public Utilities, Inc. (“GPU”), now known as FirstEnergy, to pay $700,000 in response costs, pay a civil penalty of $100,000, perform environmental studies near the Site, and in conjunction with co-plaintiff Chesapeake Utilities Corporation, pay EPA $1,700,000 for any groundwater remedy that may be implemented in the future. A second Consent Decree resolves claims against the State of Delaware. The State of Delaware is required to pay $1,000,000, for reimbursement of response costs incurred by EPA and Chesapeake Utilities, and to perform maintenance work at the Site.

The Department of Justice will receive for a period of thirty (30) days from the date of this publication comments relating to the Consent Decrees. Comments should be addressed to the Assistant Attorney General, Environment and Natural Resources Division, PO Box 7611, U.S. Department of Justice, Washington, DC 20044-7611, and should refer to U.S. v. GPU, et al., D.J. Ref. # 90-11-2-1055. The Consent Decrees may be examined at the Office of the United States Attorney, c/o Patricia Hannigan, Assistant United States Attorney, 1201 Market Street, Wilmington, DE 19801, and at U.S. EPA Region III, c/o Patricia Miller, Senior Regional Counsel, 1650 Arch Street, Philadelphia, PA 19103. During the public comment period, the Consent Decrees may be examined on the DOJ Web site: http://www.usdoj.gov/enrd/open.html. A copy of the Consent Decrees may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $11.00 for the U.S. v. Delaware Consent Decree, and $40.00 for the U.S. v. GPU Consent Decree (25 cents per page reproduction cost) payable to the U.S. Treasury. In requesting a copy of the FirstEnergy Consent Decree exclusive of exhibits and Defendants' signatures, please enclose a check in the amount of $22.25 payable to the U.S. Treasury.

Robert Brook,
Assistant Chief, Environmental Enforcement Section, Environment and Natural Resources Division.

[FR Doc. 03-7295 Filed 3-26-03; 8:45 am]

BILLING CODE 4410-15-M